DEPARTMENT OF EDUCATION

Applications for New Awards; Graduate Assistance in Areas of National Need

AGENCY: Office of Postsecondary Education, Department of Education.

ACTION: Notice.

SUMMARY: The Department of Education is issuing a notice inviting applications for new awards for fiscal year (FY) 2018 for the Graduate Assistance in Areas of National Need (GAANN) Program, Catalog of Federal Domestic Assistance (CFDA) number 84.200A.

DATES: Applications Available: July 30, 2018.

Deadline for Transmittal of Applications: August 29, 2018.

Deadline for Intergovernmental Review: September 28, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Rebecca Ell, U.S. Department of Education, 400 Maryland Avenue SW, Room 268-04, Washington, DC 20202. Telephone: (202) 453-6348. Email: OPE_GAANN_Program@ed.gov.

If you use a telecommunications device for the deaf (TDD) or a text telephone (TTY), contact the Federal Relay Service (FRS), toll free, at 1-800-877-8339.

SUPPLEMENTARY INFORMATION:

Full Text of Announcement

I. Funding Opportunity Description

Purpose of Program: The GAANN Program provides grants to academic departments and programs of institutions of higher education (IHEs) to support graduate fellowships for students with excellent academic records who demonstrate financial need and plan to pursue the highest degree available in their course of study at the institution.

Background: In accordance with section 712(b) of the Higher Education Act of 1965, as amended (20 U.S.C. 1135a), the Secretary designates areas of national need following a required consultation. Four broad areas have been identified as national needs:

1. Computer and Information Sciences: Cybersecurity, secure computer programming, and artificial intelligence.

2. Rebuilding the Nation's Infrastructure: The Administration's Legislative Outline for Rebuilding Infrastructure in America ¹ identifies a need for public and private investment in rebuilding the Nation's infrastructure. To meet this goal, the Nation needs to expand the prepared workforce to ensure timely planning, delivery, and inspection of infrastructure projects. Therefore, there is a national need to increase the number of professional engineers able to facilitate a wide range of infrastructure projects.

¹ Available at www.whitehouse.gov/wp-content/uploads/2018/02/INFRASTRUCTURE-211.pdf.

3. National Civic Literacy: Studies of American adults' knowledge of American history and institutions have demonstrated low levels of knowledge and that “greater civic knowledge trumps a college degree as the leading factor in encouraging active civic engagement.” ² In order to improve civic engagement, Americans need a clear understanding of American history and the Western traditions that gave rise to the American Republic.

² National Civic Literacy Board (2011). Enlightened Citizenship: How Civic Knowledge Trumps a College Degree in Promoting Active Civic Engagement. Available at: www.americancivicliteracy.org/2011/summary_summary.html.

4. Workforce Development: The Nation needs innovative solutions that enable individuals to gain the knowledge and skills necessary to meet workforce demands through shorter-term programs that align with the needs of employers. Professional Science Master's (PSM) degrees provide such a solution within graduate education. To better meet the Nation's needs in computer and information sciences and in engineering, PSM programs are included as terminal degree programs chosen for these areas in this competition.

Priority: This competition includes one absolute priority. In accordance with 34 CFR 75.105(b)(2)(ii), this priority is from the regulations for this program (34 CFR 648.33(a) and Appendix to part 648—Academic Areas).

Absolute Priority: For FY 2018 and any subsequent year for which we make awards from the list of unfunded applications from this competition, this priority is an absolute priority. Under 34 CFR 75.105(c)(3), we consider only applications that meet this priority.

The absolute priority is:

Graduate Assistance in Areas of National Need.

A project must provide fellowships in one or more of the following areas of national need, in an interdisciplinary program of study involving at least two of these areas, or for a multidisciplinary project. A multidisciplinary project is one that requests fellowships for more than a single academic department in one or more of the following areas, and in which each department's program of study is independent.

A. For the following academic areas, the project must provide fellowships for programs that lead either to a PSM degree or a doctoral degree.

1. Computer and Information Sciences. A degree or a degree with specialization in one or more of the following areas:

• Cybersecurity (the interdiscipline of “Computer and Information Sciences, General” and “Computer Systems Analysis”).

• Secure computer programming (the interdiscipline of “Computer and Information Sciences, General” and “Computer Programming”).

• Artificial Intelligence (the interdiscipline of “Computer Programming,” “Information Sciences and Systems,” and “Computer Engineering”).

2. Professional Engineering. A degree or a degree with specialization in one or more of the following areas:

• Aerospace, Aeronautical, and Astronautical Engineering.

• Architectural Engineering.

• Chemical Engineering.

• Civil Engineering.

• Computer Engineering.

• Electrical, Electronic, and Communications Engineering.

• Industrial/Manufacturing Engineering.

• Mechanical Engineering.

• Naval Architecture and Marine Engineering.

• Petroleum Engineering.

• Systems Engineering.

• Engineering Design.

• Engineering/Industrial Management.

• Materials Science.

• Polymer/Plastics Engineering.

B. For the following academic areas, the project must provide fellowships to students who plan to pursue the highest possible degree available in their course of study at the institution in a program that provides a master's degree, professional degree, or other post-baccalaureate degree in, or a doctorate that includes, one or more of the following specializations:

• American Political Development, Foundations of Western Civilization, American History and Institutions, or the American Founding (subsets of “Area Studies”).

• Constitutional Law (a subset of “Law and Legal Studies”).

Program Authority: 20 U.S.C. 1135.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 648.

Note: The open licensing requirement in 2 CFR 3474.20 does not apply for this program.

Note: The regulations in 34 CFR part 79 apply to all applicants except federally recognized Indian Tribes.

Note: The regulations in 34 CFR part 86 apply to IHEs only.

II. Award Information

Type of Award: Discretionary grants, including funds redistributed as graduate fellowships to individual fellows.

Estimated Available Funds: $18,357,000.

Contingent upon the availability of funds and the quality of applications, we may make additional awards in subsequent years from the list of unfunded applications from this competition.

Estimated Range of Awards: $149,250-$398,000.

Estimated Average Size of Awards: $248,750.

Estimated Number of Awards: 74.

Note: The Department is not bound by any estimates in this notice.

Project Period: Up to 36 months.

Stipend Level: For the 2018-19 academic year, the institution must pay the fellow a stipend at a level of support equal to that provided by the National Science Foundation Graduate Research Fellowship Program, except that this amount must be adjusted as necessary so as not to exceed the fellow's demonstrated level of financial need as stated under part F of title IV of the Higher Education Act of 1965, as amended.

Institutional Payment: For the 2018-19 academic year, the institutional payment is $15,750 per fellow. This amount was determined by adjusting the previous academic year's institutional payment of $15,426 per fellow by the U.S. Department of Labor's Consumer Price Index for the 2017 calendar year.

III. Eligibility Information

1. Eligible Applicants:

(a) Any academic department of an IHE that provides a course of study that—

(i) Leads to a graduate degree in an area of national need; and

(ii) Has been in existence for at least four years at the time of an application for a grant under this competition; or

(b) An academic department of an IHE that—

(i) Satisfies the requirements of paragraph (a) of this section; and

(ii) Submits a joint application with one or more eligible non-degree-granting institutions that have formal arrangements for the support of doctoral dissertation research with one or more degree-granting institutions.

Note: Students are not eligible to apply for grants under this program.

2. a. Cost Sharing or Matching: An institution must provide, from non-Federal funds, an institutional matching contribution equal to at least 25 percent of the grant amount received. (See 34 CFR 648.7.)

b. Supplement-Not-Supplant: This program involves supplement-not-supplant funding requirements. (See 34 CFR 648.20(b)(5).)

3. Subgrantees: A grantee under this competition may not award subgrants to entities to directly carry out project activities described in its application.

4. Other: For requirements relating to selecting fellows, see 34 CFR 648.40.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This program is subject to Executive Order 12372 and the regulations in 34 CFR part 79. Information about Intergovernmental Review of Federal Programs under Executive Order 12372 is in the application package for this program. Please note that, under 34 CFR 79.8(a), we have shortened the standard 60-day intergovernmental review period in order to make awards by the end of FY 2018.

3. Funding Restrictions: We specify unallowable costs in 34 CFR 648.64. We reference additional regulations outlining funding restrictions in the Applicable Regulations section of this notice.

4. Recommended Page Limit: Applications that do not follow the page limit and formatting recommendations will not be penalized. The application narrative, Part II of the application, is where you, the applicant, address the selection criteria that reviewers use to evaluate your application. We recommend the following page limits and standards:

• A project narrative in a single discipline or for an interdisciplinary course of study should be limited to no more than 40 pages.

• A project narrative for a multidisciplinary project should be limited to no more than 40 pages for each academic department.

• A “page” is 8.5″ x 11″, on one side only, with 1″ margins.

• Double-space all text in the application project narrative, and single-space titles, headings, footnotes, quotations, references, and captions.

• Use a 12-point font.

• Use an easily readable font such as Times New Roman, Courier, Courier New, or Arial.

• Limit appendices to the following: Two-page version of a curriculum vitae, per faculty member; a course listing; letters of commitment showing institutional support; a bibliography; and one additional optional appendix relevant to the support of the proposals, recommended not to exceed five pages.

The recommended page limit does not include Part I, the Application for Federal Assistance (SF 424) and the Department of Education Supplemental Information for the SF 424 Form; the one-page abstract; the GAANN Statutory Assurances Form; the GAANN Budget Spreadsheet(s) Form; the Appendices; Part III, the Assurances and Certifications; or an optional two-page table of contents.

V. Application

1. Selection Criteria: The selection criteria for this program are from 34 CFR 648.31 and are as follows:

(a) Meeting the purposes of the program (7 points). The Secretary reviews each application to determine how well the project will meet the purposes of the program, including the extent to which—

(1) The applicant's general and specific objectives for the project are realistic and measurable;

(2) The applicant's objectives for the project seek to sustain and enhance the capacity for teaching and research at the institution and at State, regional, or national levels;

(3) The applicant's objectives seek to institute policies and procedures to ensure the enrollment of talented graduate students from traditionally underrepresented backgrounds; and

(4) The applicant's objectives seek to institute policies and procedures to ensure that it will award fellowships to individuals who satisfy the requirements of 34 CFR 648.40.

(b) Extent of need for the project (5 points). The Secretary considers the extent to which a grant under the program is needed by the academic department by considering—

(1) How the applicant identified the problems that form the specific needs of the project;

(2) The specific problems to be resolved by successful realization of the goals and objectives of the project; and

(3) How increasing the number of fellowships will meet the specific and general objectives of the project.

(c) Quality of the graduate academic program (20 points). The Secretary reviews each application to determine the quality of the current graduate academic program for which project funding is sought, including—

(1) The course offerings and academic requirements for the graduate program;

(2) The qualifications of the faculty, including education, research interest, publications, teaching ability, and accessibility to graduate students;

(3) The focus and capacity for research; and

(4) Any other evidence the applicant deems appropriate to demonstrate the quality of its academic program.

(d) Quality of the supervised teaching experience (10 points). The Secretary reviews each application to determine the quality of the teaching experience the applicant plans to provide fellows under this program, including the extent to which the project—

(1) Provides each fellow with the required supervised training in instruction;

(2) Provides adequate instruction on effective teaching techniques;

(3) Provides extensive supervision of each fellow's teaching performance; and

(4) Provides adequate and appropriate evaluation of the fellow's teaching performance.

(e) Recruitment plan (5 points). The Secretary reviews each application to determine the quality of the applicant's recruitment plan, including—

(1) How the applicant plans to identify, recruit, and retain students from traditionally underrepresented backgrounds in the academic program for which fellowships are sought;

(2) How the applicant plans to identify eligible students for fellowships;

(3) The past success of the academic department in enrolling talented graduate students from traditionally underrepresented backgrounds; and

(4) The past success of the academic department in enrolling talented graduate students for its academic program.

(f) Project administration (8 points). The Secretary reviews the quality of the proposed project administration, including—

(1) How the applicant will select fellows, including how the applicant will ensure that project participants who are otherwise eligible to participate are selected without regard to race, color, national origin, religion, gender, age, or disabling condition;

(2) How the applicant proposes to monitor whether a fellow is making satisfactory progress toward the degree for which the fellowship has been awarded;

(3) How the applicant proposes to identify and meet the academic needs of fellows;

(4) How the applicant proposes to maintain enrollment of graduate students from traditionally underrepresented backgrounds; and

(5) The extent to which the policies and procedures the applicant proposes to institute for administering the project are likely to ensure efficient and effective project implementation, including assistance to and oversight of the project director.

(g) Institutional commitment (15 points). The Secretary reviews each application for evidence that—

(1) The applicant will provide, from any funds available to it, sufficient funds to support the financial needs of the fellows if the funds made available under the program are insufficient;

(2) The institution's social and academic environment is supportive of the academic success of students from traditionally underrepresented backgrounds on the applicant's campus;

(3) Students receiving fellowships under this program will receive stipend support for the time necessary to complete their courses of study, but in no case longer than five years; and

(4) The applicant demonstrates a financial commitment, including the nature and amount of the institutional matching contribution, and other institutional commitments that are likely to ensure the continuation of project activities for a significant period of time following the period in which the project receives Federal financial assistance.

(h) Quality of key personnel (5 points). The Secretary reviews each application to determine the quality of key personnel the applicant plans to use on the project, including—

(1) The qualifications of the project director;

(2) The qualifications of other key personnel to be used in the project;

(3) The time commitment of key personnel, including the project director, to the project; and

(4) How the applicant, as part of its nondiscriminatory employment practices, will ensure that its personnel are selected without regard to race, color, national origin, religion, gender, age, or disabling condition, except pursuant to a lawful affirmative action plan.

(i) Budget (5 points). The Secretary reviews each application to determine the extent to which—

(1) The applicant shows a clear understanding of the acceptable uses of program funds; and

(2) The costs of the project are reasonable in relation to the objectives of the project.

(j) Evaluation plan (15 points). The Secretary reviews each application to determine the quality of the evaluation plan for the project, including the extent to which the applicant's methods of evaluation—

(1) Relate to the specific goals and measurable objectives of the project;

(2) Assess the effect of the project on the students receiving fellowships under this program, including the effect on persons of different racial and ethnic backgrounds, genders, and ages, and on persons with disabilities who are served by the project;

(3) List both process and product evaluation questions for each project activity and outcome, including those of the management plan;

(4) Describe both the process and product evaluation measures for each project activity and outcome;

(5) Describe the data collection procedures, instruments, and schedules for effective data collection;

(6) Describe how the applicant will analyze and report the data so that it can make adjustments and improvements on a regular basis; and

(7) Include a time-line chart that relates key evaluation processes and benchmarks to other project component processes and benchmarks.

(k) Adequacy of resources (5 points). The Secretary reviews each application to determine the adequacy of the resources that the applicant makes available to graduate students receiving fellowships under this program, including facilities, equipment, and supplies.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

Additional factors we consider in selecting an application for an award are in 34 CFR 648.32.

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

VI. Award Administration Information

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118 and 34 CFR 648.66. To view the performance report currently required, visit http://www2.ed.gov/programs/gaann/performance.html. Please be advised that the posted report requirements are for informational purposes only and do not reflect the actual reporting instrument that you will use should you receive a GAANN grant. The Secretary also may require more frequent performance reports under 34 CFR 75.720(c). For specific requirements on reporting, please visit www.ed.gov/fund/grant/apply/appforms/appforms.html.

(c) Grantees will be required to submit a supplement to the Final Performance Report two years after the expiration of their GAANN grant. The purpose of this supplement is to identify and report the educational outcome of each GAANN fellow.

4. Performance Measures: Under the Government Performance and Results Act of 1993, the following measures will be used by the Department in assessing the performance of the GAANN Program:

(1) The percentage of GAANN fellows completing the terminal degree in the designated areas of national need.

(2) The median time to completion of master's and doctoral degrees for GAANN fellows.

(3) The percentage of GAANN fellows who have placements in faculty or professional positions in the area of their studies within one year of completing the degree.

If funded, you will be required to collect and report data in your project's annual performance report (34 CFR 75.590) on those measures and steps taken toward improving performance toward those outcomes. Consequently, applicants are advised to include these outcome measures in conceptualizing the design, implementation, and evaluation of their proposed projects. These outcome measures should be included in the project evaluation plan, in addition to measures of your progress toward the goals and objectives specific to your project.

All grantees will be expected to submit an annual performance report documenting their success in addressing these performance measures.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: July 26, 2018.
Diane Auer Jones,
Principal Deputy Under Secretary, delegated to perform the duties of Under Secretary and Assistant Secretary, Office of Postsecondary Education.

[FR Doc. 2018-16330 Filed 7-27-18; 8:45 am]

BILLING CODE 4000-01-P